DEPARTMENT OF THE INTERIOR

U.S. Geological Survey

[GX18EB00A181100; OMB Control Number 1028-0085/Renewal]

Agency Information Collection Activities; National Land Remote Sensing Education, Outreach and Research Activity

Correction

Notice document 2018-16986 appearing on pages 39115 through 39116, in the issue of August 8, 2018, was inadvertently published in error and is hereby withdrawn.

[FR Doc. C1-2018-16986 Filed 8-9-18; 8:45 am]

BILLING CODE 1301-00-D